POSTAL SERVICE BOARD OF GOVERNORS

Sunshine Act Meeting; Notification of Item Added to Meeting Agenda

DATE OF MEETING: December 3, 2001.

STATUS: Closed.

PREVIOUS ANNOUNCEMENT: 66 FR 59035, November 26, 2001.

ADDITION: Rate Case R2001-1.

At its meeting on December 3, 2001, the Board of Governors of the United States Postal Service voted unanimously to add this item to the agenda of its closed meeting and that no earlier announcement was possible. The General Counsel of the United States Postal Service certified that in her opinion discussion of this item could be properly closed to public observation.

CONTACT PERSON FOR MORE INFORMATION: David G. Hunter, Secretary of the Board, U.S. Postal Service, 475 L'Enfant Plaza, SW., Washington, DC.

David G. Hunter,
Secretary.

[FR Doc. 01-31169 Filed 12-13-01; 2:47 pm]

BILLING CODE 7710-12-M